DEPARTMENT OF TRANSPORTATION

Federal Aviation Administration

14 CFR Part 73

[Docket No. FAA-2004-17772; Airspace Docket No. 04-AEA-05]

RIN 2120-AA66

Amendment to Restricted Area 6604 (R-6604); Chincoteague Inlet, VA

AGENCY: Federal Aviation Administration (FAA), DOT.

ACTION: Final rule.

SUMMARY: This action modifies Restricted Area 6604 (R-6604), Chincoteague Inlet, VA, by subdividing the airspace into two separate areas (R-6604A and R-6604B). This will not affect the outer boundary of restricted airspace. The FAA is taking this action to enhance the management of air traffic operations along major East Coast Federal airways and jet routes.

DATES: Effective Date: 0901 UTC, August 5, 2004.

FOR FURTHER INFORMATION CONTACT: Paul Gallant, Airspace and Rules, Office of System Operations and Safety, ATO-R, Federal Aviation Administration, 800 Independence Avenue, SW., Washington, DC 20591; telephone (202) 267-8783.

SUPPLEMENTARY INFORMATION

Background

In its current configuration, R-6604 infringes on the protected airspace for the segments of Jet Routes 121 and 124 (J-121 and J-124), and VOR Federal Airway 139 (V-139), that extend between the Snow Hill, MD, very high frequency omnidirectional range/tactical air navigation aid (VORTAC) and the Norfolk, VA, VORTAC. When R-6604 is active, the FAA must reroute aircraft off of those segments in order to avoid the restricted airspace. During periods of high traffic demand or severe weather, this situation contributes to increased controller workload and air traffic delays.

As a result of discussions between the FAA and the National Aeronautics and Space Administration (NASA), the using agency for R-6604, it was determined that certain NASA missions do not require use of the entire restricted area as it is currently charted. The FAA and NASA have agreed to internally subdivide R-6604 into two areas which can be activated independently based on NASA's mission requirements. Subdividing the airspace in this manner will allow NASA to release, for FAA use, the part of the restricted area that conflicts with the above routes (subject to NASA mission requirements). This would permit aircraft to continue flight along J-121, J-124, or V-139, reducing both controller workload and air traffic congestion.

The Rule

This action amends Title 14 Code of Federal Regulations (14 CFR) part 73 (part 73) by subdividing R-6604 into two separate areas within the current outer boundaries of existing restricted airspace. The subdivided areas will be designated as R-6604A and R-6604B. This subdivision will not change the external boundaries, altitudes, time of designation, or activities conducted within the restricted area.

These changes will enhance the management of air traffic operations along heavily traveled East Coast air traffic routes. Therefore, notice and public procedure under 5 U.S.C. 553(b) are unnecessary.

Section 73.66 of part 73 was republished in FAA Order 7400.8L, dated October 7, 2003.

This regulation is limited to an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. It has been determined that this is a routine matter that will only affect air traffic procedures and air navigation, it is certified that this rule, when promulgated, will not have a significant economic impact on a substantial number of small entities under the criteria of the Regulatory Flexibility Act.

Environmental Review

This action is a minor administrative change to internally subdivide an existing restricted area. There are no changes to air traffic procedures or routes as a result of this action. Therefore, this action is not subject to environmental assessments and procedures in accordance with FAA Order 1050.1D, “Policies and Procedures for Considering Environmental Impacts,” and the National Environmental Policy Act of 1969.

List of Subjects in 14 CFR Part 73

Airspace, Navigation (air).

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.66 [Amended]

2. § 73.66 is amended as follows:

* * * * *

R-6604 Chincoteague Inlet, VA [Revoked]

* * * * *

R-6604A Chincoteague Inlet, VA [Added]

Boundaries. Beginning at lat. 37°55′25″ N., long. 75°24′54″ W.; to lat. 37°51′30″ N., long. 75°17′14″ W.; then along a line 3 NM from and parallel to the shoreline to lat. 37°38′45″ N., long. 75°31′19″ W.; to lat. 37°47′00″ N., long. 75°31′18″ W.; to lat. 37°51′00″ N., long. 75°29′36″ W.; to the point of beginning.

Designated altitudes. Unlimited.

Time of designation. Continuous.

Controlling agency. FAA, Washington ARTCC.

Using agency. Chief, Wallops Station, National Aeronautics and Space Administration, Wallops Island, VA.

R-6604B Chincoteague Inlet, VA [Added]

Boundaries. Beginning at lat. 37°56′45″ N., long. 75°27′29″ W.; to lat. 37°55′25″ N., long. 75°24′54″ W.; to lat. 37°51′00″ N., long. 75°29′36″ W.; to lat. 37°47′00″ N., long. 75°31′18″ W.; to 37°50′24″ N., long. 75°31′19″ W.; to the point of beginning.

Designated altitudes. Unlimited.

Time of designation. Continuous.

Controlling agency. FAA, Washington ARTCC.

Using agency. Chief, Wallops Station, National Aeronautics and Space Administration, Wallops Island, VA.

* * * * *

Issued in Washington, DC, on May 27, 2004.
Paul Gallant,
Acting Manager, Airspace and Rules, ATO-R.

[FR Doc. 04-12968 Filed 6-8-04; 8:45 am]

BILLING CODE 4910-13-P